DEPARTMENT OF THE TREASURY

Alcohol and Tobacco Tax and Trade Bureau

Proposed Information Collections; Comment Request

AGENCY: Alcohol and Tobacco Tax and Trade Bureau, Treasury.

ACTION: Notice and request for comments.

SUMMARY: As part of our continuing effort to reduce paperwork and respondent burden, and as required by the Paperwork Reduction Act of 1995, we invite comments on the proposed or continuing information collections listed below in this notice.

DATES: We must receive your written comments on or before March 26, 2007.

ADDRESSES: You may send comments to Mary A. Wood, Alcohol and Tobacco Tax and Trade Bureau, at any of these addresses:

• P.O. Box 14412, Washington, DC 20044-4412;

• 202-927-8525 (facsimile); or

• formcomments@ttb.gov (e-mail).

Please send separate comments for each specific information collection listed below. You must reference the information collection's title, form or recordkeeping requirement number, and OMB number (if any) in your comment. If you submit your comment via facsimile, send no more than five 8.5 x 11 inch pages in order to ensure electronic access to our equipment.

FOR FURTHER INFORMATION CONTACT: To obtain additional information, copies of an information collection and its instructions, or copies of any comments received, contact Mary A. Wood, Alcohol and Tobacco Tax and Trade Bureau, P.O. Box 14412, Washington, DC 20044-4412; or telephone 202-927-8210.

SUPPLEMENTARY INFORMATION:

Request for Comments

The Department of the Treasury and its Alcohol and Tobacco Tax and Trade Bureau (TTB), as part of their continuing effort to reduce paperwork and respondent burden, invite the general public and other Federal agencies to comment on the proposed or continuing information collections listed below in this notice, as required by the Paperwork Reduction Act of 1995 (44 U.S.C. 3501 et seq.).

Comments submitted in response to this notice will be included or summarized in our request for Office of Management and Budget (OMB) approval of the relevant information collection. All comments are part of the public record and subject to disclosure. Please not do include any confidential or inappropriate material in your comments.

We invite comments on: (a) Whether this information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

Information Collections Open for Comment

Currently, we are seeking comments on the following records and questionnaires:

Title: Letterhead Applications and Notices Filed by Brewers.

OMB Number: 1513-0005.

TTB Form Numbers: 5130.10.

TTB Recordkeeping Requirement Number: 5130/2.

Abstract: The Internal Revenue Code requires brewers to file a notice of intent to operate a brewery. TTB Form 5130.10 is similar to a permit and, when approved by TTB, is a brewer's authorization to operate. Letterhead applications and notices are necessary to identify brewery activities so that TTB may ensure that proposed operations do not jeopardize Federal revenues.

Current Actions: There are changes to TTB F 5130.10. We are adding new text to Item 12, a space for the EIN and Brewery Registry Number at the top of page 2, and new Items 13 (Brewer's Business Day) and 15 (Controlled Group question). Also, we are deleting Controlled Group questions from Items 16 and 20, as well as the reference to Special Occupational Tax from Item 19. To the instructions we are adding Limited Liability Corporation (LLC) and Limited Partnership (LP) to Item 3 and a new Item 15 to explain what information must be provided for Controlled (Brewery) Groups. The form is being re-numbered to accommodate the changes.

Type of Review: Revision of a currently approved collection.

Affected Public: Business or other for-profit.

Estimated Number of Respondents: 1,632.

Estimated Total Annual Burden Hours: 8,976.

Title: Principal Place of Business on Beer Labels.

OMB Number: 1513-0085.

TTB Recordkeeping Requirement Number: 5130/5.

Abstract: TTB regulations permit domestic brewers who operate more than one brewery to show as their address on labels and kegs of beer, their “principal place of business” address. This label option may be used in lieu of showing the actual place of production or of listing all of the brewer's locations on the label.

Current Actions: We are increasing the number of respondents; however, the burden hours remain at one (1). We are submitting this collection as an extension of an existing collection.

Type of Review: Extension of a currently approved collection.

Affected Public: Business or other for-profit.

Estimated Number of Respondents: 1,632.

Estimated Total Annual Burden Hours: One (1).

Title: Marks on Equipment and Structures and Marks and Labels on Containers of Beer.

OMB Number: 1513-0086.

TTB Recordkeeping Requirement Numbers: 5230/3 and 5130/4.

Abstract: Marks, signs, and calibrations are necessary on equipment and structures for identifying major equipment for accurate determination of tank contents, and for the segregation of taxpaid and nontaxpaid beer. Marks and labels on containers of beer are necessary to inform consumers of container contents and to identify the brewer and place of production.

Current Actions: We have increased the number of respondents; however, the burden hours remain at one (1). We are submitting this collection as an extension of an existing collection.

Type of Review: Extension of a currently approved collection.

Affected Public: Business or other for-profit.

Estimated Number of Respondents: 1,632.

Estimated Total Annual Burden Hours: One (1).

Title: Pay.gov User Agreement.

OMB Number: 1513-0117.

TTB Form Number: 5000.31.

Abstract: The Pay.gov User Agreement will be used to identify, validate, approve, and register qualified users to allow for submission of electronic forms via the Pay.gov system.

Current Actions: There are no changes to this information collection, and it is being submitted for extension purposes only.

Type of Review: Extension of a currently approved collection.

Affected Public: Business or other for-profit.

Estimated Number of Respondents: 5,800.

Estimated Total Annual Burden Hours: 483.

Dated: January 18, 2007.
Francis W. Foote,
Director, Regulations and Rulings Division.

[FR Doc. E7-981 Filed 1-23-07; 8:45 am]

BILLING CODE 4810-31-P